SOCIAL SECURITY ADMINISTRATION

The Ticket to Work and Work Incentives Advisory Panel Meeting

AGENCY: Social Security Administration (SSA).

ACTION: Notice of Quarterly Meeting.

DATES:

November 13, 2000, 9 a.m.-5 p.m.

November 14, 2000, 9 a.m.-5 p.m.

November 15, 2000, 9 a.m.-5 p.m.

ADDRESSES: Embassy Suites at Chevy Chase Pavilion, 4300 Military Road, NW, Washington, DC 20015, (202) 362-9300, (202) 686-3405 Fax.

The hotel is located on the corner of Wisconsin Avenue and Military Road and directly above the Friendship Heights Metro station.

SUPPLEMENTARY INFORMATION: Type of meeting: The quarterly meeting is open to the public. The public is invited to participate by coming to the address listed above. The public is also invited to submit comments in writing at any time on or before November 13, 2000.

Purpose: In accordance with section 10(a)(2) of the Federal Advisory Committee Act, the Social Security Administration (SSA) announces a quarterly meeting of the Ticket to Work and Work Incentives Improvement Act (TWWIIA) Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Interested parties are invited to attend the meeting. The Panel will use this time to receive public testimony, hear presentations on the implementation of TWWIIA, conduct workgroups and full Panel deliberations, receive briefings and conduct a business meeting. The Panel will meet commencing Monday, November 13, 2000 at 9 a.m. to 5 p.m.; Tuesday, November 14, 2000 at 9 a.m. to 5 p.m. and Wednesday, November 15, 2000 at 9 a.m. to 5 p.m.

Agenda: Public testimony will be heard in person and via teleconference on Monday, November 13, 2000. Individuals interested in providing testimony in person or by telephone should contact the Panel staff as outlined below to schedule time slots. Members of the public must schedule a timeslot in order to comment.

Each presenter will be called on by the Chair in the order in which they are scheduled to testify and is limited to a maximum five-minute verbal presentation. Full written testimony on TWWIIA Implementation, no longer than 5 pages, may be submitted in person or by mail, fax or email on an on-going basis to the Panel for consideration.

In the event that the public comments do not take up the scheduled time period for each topic, the Panel will use that time to deliberate and conduct other Panel business.

Since seating may be limited, persons interested in providing testimony or in attending this meeting should contact the Panel staff by E-mailing Kristen M. Breland, at “kristen.m.breland@ssa.gov” or calling (410) 966-7225.

The full agenda for the meeting follows this announcement. The agenda is also posted on the Internet at http://www.ssa.gov/work/Resources/Toolkit/ or can be received in advance electronically or by fax upon request. Seating may be limited so persons interested in attending this meeting should contact the Panel staff by e-mail or telephone.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 107 Altmeyer Building, 6401 Security Boulevard, Baltimore MD, 21235

• Telephone contact with Kristen Breland at (410) 966-7225

• Fax at (410) 965-9063

• E-mail to TWWIIAPanel@ssa.gov

Dated: October 5, 2000.
Deborah M. Morrison,
Designated Federal Officer.

Ticket to Work and Work Incentives Advisory Panel—Public Meeting

Embassy Suites at Chevy Chase Pavilion, 4300 Military Road, NW, Washington, DC 20015, (202) 362-9300, (202) 686-3405 Fax.

The hotel is located on the corner of Wisconsin Avenue and Military Road and directly above the Friendship Heights Metro station.

November 13-15, 2000

Monday, November 13, 2000, Day 1

9:00 AM Meeting Called to Order by Deborah Morrison, Designated Federal Officer

Welcome—Sarah Mitchell, Presiding

Introductions

Update on TWWIIA Implementation

9:30 to 12:00 AM

Public Testimony Comment Periods Addressing Specific Topics

9:30 to 10:30

Who Gets a Ticket? The Definition of a Ticket.

10:30 to 11:00

Break

11:00 to 12:00

Qualifications of Employment Networks

12:00 to 1:30 PM

Lunch (On Your Own)

1:30 PM

Meeting Reconvenes, Sarah Mitchell, Presiding

1:30 to 2:30 PM

Public Testimony Comment Periods Addressing Specific Topics

1:30 to 2:30

Design of Outcome and Milestone Payment Methods

2:30 to 3:00

Break

3:00 to 4:00

TWWIIA Implementation

4:00 to 5:00

Telephone Call-in Public Comment Period on any TWWIIA Implementation Topic

Please note: If time allotted for public comment exceeds the time required, the Panel will use the time to deliberate on TWWIIA implementation.

5:00 PM

Adjournment

Tuesday, November 14, 2000, Day 2

9:00 to 12:00 AM

Panel Workgroup Deliberations

12:00 to 1:30 PM

Lunch (On Your Own)

1:30 PM

Meeting Reconvenes Sarah Mitchell, Presiding

1:30 to 3:30 PM

Panel Workgroups Reports

3:30 to 3:45 PM

Break

3:45 to 5:30 PM

Full Panel Deliberations

5:00 PM

Adjournment

Wednesday, November 15, 2000, Day 3

9:00 AM

Meeting Convenes, Sarah Mitchell, Presiding

9:00—11:00 AM

Update on TWWIIA Implementation Office of Employment Support Program Office of Policy

11:00 to 12:00

Briefing on the Federal Advisory Committee Act

12:00 to 1:30

Lunch (On Your Own)

1:30 to 4:00 PM

Business Meeting

5:00 PM

Adjournment by Designated Federal Officer

[FR Doc. 00-26311 Filed 10-12-00; 8:45 am]

BILLING CODE 4191-02-P